DEPARTMENT OF TRANSPORTATION

Federal Aviation Administration

14 CFR Part 39

[Docket No. FAA-2018-0204; Product Identifier 2018-CE-003-AD; Amendment 39-19339; AD 2018-15-07]

RIN 2120-AA64

Airworthiness Directives; Costruzioni Aeronautiche Tecnam srl Airplanes

AGENCY: Federal Aviation Administration (FAA), Department of Transportation (DOT).

ACTION: Final rule.

SUMMARY: We are adopting a new airworthiness directive (AD) for certain Costruzioni Aeronautiche Tecnam srl Model P2006T airplanes. This AD results from mandatory continuing airworthiness information (MCAI) issued by an aviation authority of another country to identify and correct an unsafe condition on an aviation product. The MCAI describes the unsafe condition as an incorrect part number for the rudder trim actuator is referenced in the Airworthiness Limitations section of the FAA-approved maintenance program (e.g., maintenance manual) and the life limit for that part may not be properly applied in service. We are issuing this AD to require actions to address the unsafe condition on these products.

DATES: This AD is effective September 4, 2018.

ADDRESSES: You may examine the AD docket on the internet at http://www.regulations.gov by searching for and locating Docket No. FAA-2018-0204; or in person at U.S. Department of Transportation, Docket Operations, M-30, West Building Ground Floor, Room W12-140, 1200 New Jersey Avenue SE, Washington, DC 20590.

For service information identified in this AD, contact Costruzioni Aeronautiche Tecnam srl, Via Tasso, 478, 80127 Napoli, Italy, phone: +39 0823 620134, fax: +39 0823 622899, email: airworthiness@tecnam.com, internet: https://www.tecnam.com/us/support/.

FOR FURTHER INFORMATION CONTACT: Jim Rutherford, Aerospace Engineer FAA, Small Airplane Standards Branch, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 by adding an AD that would apply to Costruzioni Aeronautiche Tecnam srl Model P2006T airplane. The NPRM was published in the Federal Register on March 19, 2018 (83 FR 11903). The NPRM proposed to correct an unsafe condition for the specified products and was based on mandatory continuing airworthiness information (MCAI) originated by the European Aviation Safety Agency (EASA), which is the Technical Agent for the Member States of the European Community. The MCAI states:

It was identified that the Part Number (P/N) of the rudder trim actuator mentioned in the P2006T Aircraft Maintenance Manual (AMM) Airworthiness Limitations Section (ALS) document was erroneously mentioned. As a result, it cannot be excluded that the life limit applicable to this actuator is not being applied in service.

This condition, if not corrected, could lead to failure of the rudder control system, possibly resulting in reduced control of the aeroplane.

To address this potential unsafe condition, TECNAM published Service Bulletin (SB)-285-CS Ed. 1 Rev. 0 (later revised) to inform operators about this typographical error. It is expected that, during the next revision of the P2006T AMM ALS document, it will list the correct the P/N for that rudder trim actuator.

For the reason described above, this [EASA] AD requires implementation of a life limit for rudder trim actuator.

The MCAI can be found in the AD docket on the internet at https://www.regulations.gov/document?D=FAA-2018-0204-0002.

Comments

We gave the public the opportunity to participate in developing this AD. We received no comments on the NPRM or on the determination of the cost to the public.

Changes Made to This AD

We changed the incorporation by reference of the service information for adding a life limit to the Airworthiness Limitations section of the maintenance program to only a reference. The service information does not provide any specific procedures or instructions for establishing the life limit.

We also inadvertently omitted information for “Contacting the Manufacturer,” which is a standard paragraph for FAA ADs related to MCAIs. We have added that paragraph in the final rule as paragraph (g)(2).

Conclusion

We reviewed the relevant data and determined that air safety and the public interest require adopting the AD as proposed except for the changes stated above and other minor editorial changes. We have determined that these minor changes:

• Are consistent with the intent that was proposed in the NPRM for correcting the unsafe condition; and

• Do not add any additional burden upon the public than was already proposed in the NPRM.

Related Service Information

Costruzioni Aeronautiche Tecnam srl has issued Service Bulletin No. SB 285-CS-Ed 1, Revision 2, dated February 2, 2018. The service information describes procedures for correcting the part number of the rudder trim actuator in the Airworthiness Limitations section of the FAA-approved maintenance program (e.g., maintenance manual).

Costs of Compliance

We estimate that this AD will affect 20 products of U.S. registry. We also estimate that it will take about 1 work-hour per product to comply with this requirement to incorporate a correction to the Airworthiness Limitations section of the FAA-approved maintenance program (e.g., maintenance manual). The average labor rate is $85 per work-hour.

Based on these figures, we estimate the cost of this AD on U.S. operators to be $1,700, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the internet at http://www.regulations.gov by searching for and locating Docket No. FAA-2018-0204; or in person at Docket Operations between 9 a.m. and 5 p.m., Monday through Friday, except Federal holidays. The AD docket contains the NPRM, the regulatory evaluation, any comments received, and other information. The street address for the Docket Operations (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-15-07 Costruzioni Aeronautiche Tecnam srl: Amendment 39-19339; Docket No. FAA-2018-0204; Product Identifier 2018-CE-003-AD.

(a) Effective Date

This AD becomes effective September 4, 2018.

(b) Affected ADs

None.

(c) Applicability

This AD applies to Costruzioni Aeronautiche Tecnam srl Model P2006T airplanes, all serial numbers that do not incorporate design change TECNAM modification (Mod) 2006/322 at production, certificated in any category.

(d) Subject

Air Transport Association of America (ATA) Code 27: Flight Controls.

(e) Reason

This AD was prompted by mandatory continuing airworthiness information (MCAI) originated by an aviation authority of another country to identify and address an unsafe condition on an aviation product. The MCAI describes the unsafe condition as an incorrect part number for the rudder trim actuator is referenced in the Airworthiness Limitations section of the FAA-approved maintenance program (e.g., maintenance manual), and the life limit for that part may not be properly applied in service. We are issuing this AD to prevent failure of the rudder trim actuator, which could cause the rudder control system to fail. This failure could result in reduced control of the airplane.

(f) Actions and Compliance

Unless already done, do the following actions in paragraphs (f)(1) through (3) of this AD. The hours time-in-service (TIS) specified in paragraph (f)(1) of this AD are those accumulated on the rudder trim actuator, part number (P/N) B6-7T, since first installed on an airplane. If the total hours TIS are unknown, the hours TIS on the airplane must be used.

(1) Initially replace the rudder trim actuator, P/N B6-7T, at the compliance time in paragraph (f)(1)(i) or (ii) of this AD that occurs later:

(i) Before accumulating 1,000 hours TIS; or

(ii) Within the next 25 hours TIS after September 4, 2018 (the effective date of this AD) or within the next 30 days after September 4, 2018 (the effective date of this AD), whichever occurs first.

(2) After the initial replacement required in paragraph (f)(1) of this AD, repetitively thereafter replace the rudder trim actuator, P/N B6-7T, at intervals not to exceed 1,000 hours TIS.

(3) Within the next 12 months after September 4, 2018 (the effective date of this AD), revise the Airworthiness Limitations section of the FAA-approved maintenance program (e.g., maintenance manual) by establishing a 1,000-hour life limit for the rudder trim actuator P/N B6-7T. You may refer to Costruzioni Aeronautiche Tecnam srl (TECNAM) Service Bulletin No. SB 285-CS-Ed 1, Revision 1 (dated November 7, 2017) or Revision 2 (dated February 2, 2018) for more information.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Jim Rutherford, Aerospace Engineer, FAA, Small Airplane Standards Branch, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Small Airplane Standards Branch, FAA; or the European Aviation Safety Agency (EASA).

(h) Related Information

Refer to MCAI European Aviation Safety Agency (EASA) AD No. 2018-0029, dated January 31, 2018, and Costruzioni Aeronautiche Tecnam srl Service Bulletin No. SB 285-CS-Ed 1, Revision 1, dated November 7, 2017, and Revision 2, dated February 2, 2018, for related information. You may examine the MCAI on the internet https://www.regulations.gov/document?D=FAA-2018-0204-0002.

Issued in Kansas City, Missouri, on July 19, 2018.
Pat Mullen,
Acting Deputy Director, Policy & Innovation Division (AIR-601), Aircraft Certification Service.

[FR Doc. 2018-15981 Filed 7-27-18; 8:45 am]

BILLING CODE 4910-13-P